POSTAL SERVICE

39 CFR Part 111

Treatment of Undeliverable Books and Sound Recordings

AGENCY: Postal Service™.

ACTION: Proposed rule.

SUMMARY: The Postal Service is proposing to revise the mailing standards for the treatment of books and sound recordings that are found loose in the mail or undeliverable as addressed. The revision would eliminate confusion and simplify procedures.

DATES: Written comments must be received on or before August 8, 2008.

ADDRESSES: Mail or deliver written comments to the Manager, Mailing Standards, U.S. Postal Service, 475 L'Enfant Plaza, SW., Room 3436, Washington, DC 20260-3436. You may inspect and photocopy all written comments at USPS Headquarters Library, 475 L'Enfant Plaza, SW., 11th Floor N, Washington, DC, between 9 a.m. and 4 p.m., Monday through Friday. Do not submit comments via fax or e-mail.

FOR FURTHER INFORMATION CONTACT: Bert Olsen at 202-268-7276.

SUPPLEMENTARY INFORMATION: Mailing Standards of the United States Postal Service, Domestic Mail Manual (DMM®) 507.1.9.2, as originally written (under the section titled Dead Mail), was intended to facilitate a process for identifying and returning to the original publisher or distributor books and recordings that had become undeliverable as a result of being “loose in the mail” (contents separated from packaging and other address information). Unpredictably, the rule has been misinterpreted by some publishers and distributors as allowing them to reclaim ownership of all UAA mail and not just mail that was truly identified as “loose” in the mail. Practically speaking, there are very few commercially mailed books and sound recordings found loose in the mail. Books and sound recordings seldom separate from their outer wrappings. The vast majority of pieces that are not delivered are pieces that the Postal Service attempted to deliver but were refused by the addressee.

Therefore, the Postal Service is proposing to remove DMM Section 507.1.9.2 in its entirety. To clarify their preferences regarding UAA pieces, mailers are encouraged to use appropriate ancillary service endorsements. Currently, many commercially mailed books and sound recordings are mailed at Standard Mail and Package Services prices using the endorsement, “Change Service Requested”, to indicate that the piece should not be returned. This endorsement requires that UAA pieces, including refused pieces, be disposed of by the Postal Service and a notice of the new address (if applicable) or reason for nondelivery be provided to the mailer. Alternatively, mailers who wish to have UAA Standard Mail or Package Services pieces returned can use the endorsement, “Return Service Requested.” This endorsement requires that UAA pieces, including refused packages, be returned to the sender with the reason for non-delivery; the sender is charged postage at the First-Class Mail single-piece price or Priority Mail single-piece price, for pieces originally sent as Standard Mail, or the appropriate Package Services single-piece price, for pieces originally sent as Package Services mail, based on the weight of the piece.

Background Information

DMM 507.1.9 defines “dead mail” as “matter which is deposited in the mail that is or becomes undeliverable and cannot be returned to the sender from the last office of address.” DMM 507.1.9.1 sets out general procedures for attempting to identify senders or recipients of dead mail and the means by which identifiable items are returned and postage is collected for return. DMM 507.1.9.3 notes that the Postal Operations Manual (POM) “contains USPS policy and procedures for handling and disposing of dead mail. Those procedures include provisions for the sale or donation of dead mail.

In the past, as now, commercial mailers of books and sound recordings could endorse their mailings to provide for the return of undeliverable as addressed (UAA) items to them by guaranteeing payment upon return, or could by endorsement, or by lack of endorsement, indicate that return was not requested, in which case the undeliverable items were to be considered as the property of the U.S. Postal Service.

DMM 507.1.5.3 and 1.5.4 list and describe the endorsements available to mailers of Standard Mail and Package Services parcels who want to have pieces that are undeliverable as addressed forwarded or returned. Each of these endorsements (“Forwarding Service Requested,” “Return Service Requested,” or “Address Service Requested,”), provide for return of an item to the mailer under certain specified conditions when the mailer provides payment for the return at the appropriate price.

Accordingly, the Postal Service proposes to delete DMM 507.1.9.2. The Postal Service recognizes that this change may affect the ancillary service endorsement choices of mailers of books and sound recordings and therefore proposes that the final rule will be effective 60 days following its publication.

Although exempt from the notice and comment requirements of the Administrative Procedure Act [5 U.S.C. 553(b),(c)] regarding proposed rulemaking by 39 U.S.C 410(a), the Postal Service invites comments on the following proposed revisions to the Domestic Mail Manual, which is incorporated by reference in the Code of Federal Regulations. See 39 CFR 111.

List of Subjects in 39 CFR Part 111

Administrative Practice and Procedure, Postal Service.

PART 111—[AMENDED]

1. The authority citation for 39 CFR part 111 continues to read as follows:

Authority: 5 U.S.C. 552(a); 39 U.S.C. 101, 401, 403, 404, 414, 416, 3001-3011, 3201-3219, 3403-3406, 3621, 3622, 3626, 3632, and 5001.

2. Revise the following section of the Domestic Mail Manual (DMM) as set forth below:

* * * * *

500 Additional Services

* * * * *

507 Mailer Services

1.0 Treatment of Mail

* * * * *

1.9 Dead Mail

* * * * *

[Delete 1.9.2 in its entirety and renumber current 1.9.3 as new 1.9.2]

1.9.2 Books and Sound Recordings

* * * * *

We will publish an appropriate amendment to 39 CFR Part 111 to reflect these changes if the proposal is adopted.

Neva R. Watson,
Attorney, Legislative.

[FR Doc. E8-15223 Filed 7-8-08; 8:45 am]

BILLING CODE 7710-12-P